DEPARTMENT OF DEFENSE

GENERAL SERVICES ADMINISTRATION

NATIONAL AERONAUTICS AND SPACE ADMINISTRATION

48 CFR Parts 2, 4, 7, 9, 12, 13, 17, 18, 19, 22, 25, 26, 28, 32, 44, and 52

[FAR Case 2015-005; Docket No. 2015-0005, Sequence No. 1]

RIN 9000-AN19

Federal Acquisition Regulation: System for Award Management Registration

AGENCY: Department of Defense (DoD), General Services Administration (GSA), and the National Aeronautics and Space Administration (NASA).

ACTION: Proposed rule.

SUMMARY: DoD, GSA, and NASA are proposing to amend the Federal Acquisition Regulation (FAR) to update the instructions for System for Award Management (SAM) registration requirements and to correct an inconsistency with offeror representation and certification requirements.

DATES: Interested parties should submit written comments to the Regulatory Secretariat Division at one of the addresses shown below on or before July 19, 2016 to be considered in the formation of the final rule.

ADDRESSES: Submit comments in response to FAR case 2015-005 by any of the following methods:

• Regulations.gov: http://www.regulations.gov. Submit comments via the Federal eRulemaking portal by searching “FAR Case 2015-005”. Select the link “Comment Now” that corresponds with “FAR Case 2015-005.” Follow the instructions provided on the screen. Please include your name, company name (if any), and “FAR Case 2015-005” on your attached document.

• Mail: General Services Administration, Regulatory Secretariat Division (MVCB), ATTN: Ms. Flowers, 1800 F Street NW., 2nd Floor, Washington, DC 20405.

Instructions: Please submit comments only and cite FAR Case 2015-005, in all correspondence related to this case. All comments received will be posted without change to http://www.regulations.gov, including any personal and/or business confidential information provided.

FOR FURTHER INFORMATION CONTACT: Mr. Curtis E. Glover, Sr., Procurement Analyst, at 202-501-1448 for clarification of content. For information pertaining to status or publication schedules, contact the Regulatory Secretariat Division at 202-501-4755. Please cite FAR Case 2015-005.

SUPPLEMENTARY INFORMATION:

I. Background

Currently, the language in the FAR is not consistent in terms of whether offerors need to be registered in SAM prior to submitting an offer or prior to award. Per FAR clause 52.204-7 an offeror is not “registered in the SAM database” unless an offeror has completed its online annual representations and certifications. FAR 52.204-8(b) and (d) state that if clause 52.204-7 is included in the solicitation, then the offeror verifies by submission of the offer that the representations and certifications in SAM are current and accurate. While the clauses instruct offerors to complete representations and certifications by registering in SAM prior to the submission of offers, the policy at FAR 4.1102 states that SAM registration (which includes online reps and certs) must be completed by the time of award. In order to correct this inconsistency DoD, GSA, and NASA are proposing to amend FAR 4.1102 and 4.1103 to require offeror registration in SAM prior to submission of an offer.

In addition, the proposed rule will require contracting officers to use the name and physical address from the contractor's SAM registration for the provided Data Universal Numbering System (DUNS). We recognize that there is an ongoing FAR case (2015-022, Unique Identification of Entities Receiving Federal Awards) to remove the reference to the DUNS number, and once the final rule from that case is published; references to the DUNS number will be changed. This proposed rule also removes the term “division name” from the FAR text at FAR 4.1102, clause 52.204-13, and provision 52.212-4.

The proposed rule also changes the referenced Web site “acquisition.gov” to “SAM.gov” to be consistent with the rest of the FAR. “Database” is also added to “SAM” so that in the FAR it is clearly understood that the reference is to the “SAM database”.

II. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under Section 6(b) of E.O. 12866, Regulatory Planning and Review, dated September 30, 1993. This proposed rule is not a major rule under 5 U.S.C. 804.

V. Regulatory Flexibility Act

DoD, GSA, and NASA do not expect this proposed rule to have a significant economic impact on a substantial number of small entities within the meaning of the Regulatory Flexibility Act, 5 U.S.C. 601, et seq., because the proposed rule would only change when an offeror must be registered in SAM. However, an initial regulatory flexibility analysis (IRFA) has been performed and is summarized as follows:

FAR subpart 4.11 was updated by FAR case 2012-033 which was published in the Federal Register at 78 FR 37676 on June 21, 2013, to reflect the retirement of the Central Contractor Registration and Online Representation and Certification Application systems and the implementation of SAM. Since the final rule was published, the Department of Defense (DoD) identified three clarifications that need to be made to the subpart and its associated provisions and clauses.

Currently, the language in the FAR is not consistent in terms of whether offerors need to be registered in SAM prior to submitting an offer or prior to award. Per FAR clause 52.204-7 an offeror is not “registered in the SAM database” unless an offeror has completed its online annual representations and certifications. FAR 52.204-8(b) and (d) state that if clause 52.204-7 is included in the solicitation, then the offeror verifies by submission of the offer that the representations and certifications in SAM are current and accurate. While the clauses instruct offerors to complete representations and certifications by registering in SAM prior to submission of offers, the policy at FAR 4.1102 states that SAM registration (which includes online reps and certs) must be completed by the time of award.

In order to correct this inconsistency the rule proposes that offerors be registered in SAM prior to submission of an offer. Once offerors are registered in SAM they are in the system and are only required to update SAM registration in accordance with the clause. This eliminates the need for potential offerors to complete reps and certs multiple times when responding to solicitations.

The proposed rule would apply to small businesses that submit offers to the Federal Government. The rule contains information collection requirements. OMB has cleared this information collection requirement under OMB Control Number 9000-0159, titled: Central Contractor Registration. GSA has submitted a request to OMB to change the name of the collection to “System for Award Management Registration.” That request is pending.

The total number of small businesses in the Federal Procurement Data System (FPDS) for FY 2013 is 111,036. This proposed rule would apply to that number of small businesses, as well as an estimated equal number that did not receive an award for FY 2013.

There will be no burden on small businesses because this proposed rule change does not place any new requirements on small entities. The only change is when the requirement for submission of the representations and certifications must occur.

This proposed rule requires offerors to be registered in SAM prior to submission of an offer. Once offerors are registered in SAM they are in the system and are only required to update SAM registration in accordance with the clause. This eliminates the need for potential offerors to complete representations and certifications multiple times when responding to solicitations.

The proposed rule does not duplicate, overlap, or conflict with any other Federal rules.

There are no significant alternatives to the rule which accomplish the stated objectives of applicable statutes and which minimize any significant economic impact of the proposed rule on small entities.

The Regulatory Secretariat Division has submitted a copy of the IRFA to the Chief Counsel for Advocacy of the Small Business Administration. A copy of the IRFA may be obtained from the Regulatory Secretariat Division. DoD, GSA, and NASA invite comments from small business concerns and other interested parties on the expected impact of this proposed rule on small entities.

DoD, GSA, and NASA will also consider comments from small entities concerning the existing regulations in subparts affected by the proposed rule consistent with 5 U.S.C. 610. Interested parties must submit such comments separately and should cite 5 U.S.C. 610 (FAR Case 2015-005), in correspondence.

VI. Paperwork Reduction Act

The Paperwork Reduction Act (44 U.S.C. Chapter 35) applies. The proposed rule contains information collection requirements. OMB has cleared this information collection requirement under OMB Control Number 9000-0159; Central Contractor Registration. GSA has submitted a request to OMB to change the name of the collection to “System for Award Management Registration.” That request is pending.

List of Subjects in 48 CFR Parts 2, 4, 7, 9, 12, 13, 17, 18, 19, 22, 25, 26, 28, 32, 44, and 52

Government procurement.

Dated: May 17, 2016.
William Clark,
Director, Office of Government-wide Acquisition Policy, Office of Acquisition Policy, Office of Government-wide Policy.

Therefore, DoD, GSA, and NASA are proposing to amend 48 CFR parts 2, 4, 7, 9, 12, 13, 17, 18, 19, 22, 25, 26, 28, 32, 44, and 52, as set forth below:

1. The authority citation for 48 CFR parts 2, 4, 7, 9, 12, 13, 17, 18, 19, 22, 25, 26, 28, 32, 44, and 52 continues to read as follows:

Authority: 40 U.S.C. 121(c); 10 U.S.C. chapter 137; and 51 U.S.C. 20113.

PART 2—DEFINITIONS OF WORDS AND TERMS

2.101 [Amended]

2. Amend section 2.101 in paragraph (b) by removing from the definition “Disaster Response Registry”, “https://www.acquisition.gov” and adding “https://www.sam.gov” in its place.

PART 4—ADMINISTRATIVE MATTERS

3. Amend section 4.605 by revising the introductory text of paragraph (c)(2) to read as follows.

4.605 Procedures.

* * * * *

(c) * * *

(2) Authorized generic DUNS numbers, maintained by the Integrated Award Environment (IAE) Business Operations Division program office (https://www.sam.gov), may be used to report contracts in lieu of the contractor's actual DUNS number only for—

* * * * *

4. Amend section 4.1102 by—

a. Revising the introductory text of paragraph (a);

b. Redesignate paragraph (c) as paragraph (d);

c. Adding a new paragraph (c); and

d. Revising newly redesignated paragraph (d)(1)(i).

The revisions read as follows.

4.1102 Policy.

(a) Prospective contractors shall be registered in the SAM database at the time an offer or quote is submitted in order to comply with the annual representations and certifications requirements (see FAR subpart 4.12) of a contract or agreement, except for—

* * * * *

(c) Contracting officers shall use the legal business name or “doing business as” name and physical address from the contractor's SAM registration for the provided DUNS number to identify the contractor in Schedule A of the contract, similar sections of non-uniform contract formats and agreements, and all corresponding forms and data exchanges. Contracting officers shall make no changes to the data from SAM.

(d)(1)(i) If a contractor has legally changed its business name or “doing business as” name (whichever is shown on the contract), or has transferred the assets used in performing the contract, but has not completed the necessary requirements regarding novation and change-of-name agreements in subpart 42.12, the contractor shall provide the responsible contracting officer a minimum of one business day's written notification of its intention to: Change the name in the SAM database; comply with the requirements of subpart 42.12; and agree in writing to the timeline and procedures specified by the responsible contracting officer. The contractor must provide with the notification sufficient documentation to support the legally changed name.

* * * * *

5. Revise section 4.1103 to read as follows:

4.1103 Procedures.

(a) Unless the acquisition is exempt under 4.1102, the contracting officer—

(1) Shall verify that the prospective contractor is registered in the SAM database (see paragraph (b) of this section) at the time of offer or quote submission;

(2) Should use the DUNS number or, if applicable, the DUNS+4 number, to verify SAM registration—

(i) Via the Internet via https://www.sam.gov;

(ii) As otherwise provided by agency procedures; and

(3) Need not verify SAM registration before placing an order or call if the contract or agreement includes the provision at 52.204-7 System for Award Management, or the clause at 52.212-4 Contract Terms and Conditions—Commercial Items, or a similar agency clause, except when use of the Governmentwide commercial purchase card is contemplated as a method of payment. (See 32.1108(b)(2)).

(b) If the contract action is being awarded pursuant to 4.1102(a)(5), or in a manner that considers other such instances of urgency, the contractor shall be registered in the SAM database within 30 days after contract award, or at least three days prior to submission of the first invoice, whichever occurs first.

(c) Agencies shall protect against improper disclosure of Contractor or offeror SAM information.

(d) The contracting officer shall, on contractual documents transmitted to the payment office, provide the DUNS number, or, if applicable, the DUNS+4, in accordance with agency procedures.

4.1104 [Amended]

6. Amend section 4.1104 by removing from the paragraph “https://www.acquisition.gov” and adding “https://www.sam.gov” in its place.

4.1200 [Amended]

7. Amend section 4.1200 by removing from the introductory text “System for Award Management (SAM)” and adding “System for Award Management (SAM) database” in its place.

4.1201 [Amended]

8. Amend section 4.1201 by—

a. Removing from paragraph (a) “https://www.acquisition.gov” and adding “https://www.sam.gov” in its place; and

b. Removing from paragraph (b)(1) “shall update” and adding “shall review and update” in its place.

PART 7—ACQUISITION PLANNING

7.103 [Amended]

9. Removing from paragraph (y) “https://www.acquisition.gov” and adding “https://www.sam.gov” in its place.

PART 9—CONTRACTOR QUALIFICATIONS

10. Amend section 9.404 by—

a. Revising the section heading;

b. Revising paragraph (a)(1);

c. Removing from the introductory text of paragraph (b) “The SAM Exclusions” and adding “An exclusion record in SAM” in its place;

d. Removing from paragraph (b)(1) “of all contractors debarred” and adding “of the contractor debarred” in its place;

e. Revising paragraph (c); and

f. Removing from paragraph (d) “https://www.acquisition.gov and adding “https://www.sam.gov” in its place.

The revisions read as follows:

9.404 Exclusions in the System for Award Management.

(a) * * *

(1) Operates the web-based System for Award Management (SAM) which contains Exclusions records; and

* * * * *

(c) Each agency must—

(1) Identify the individual(s) responsible for entering and updating exclusions data in SAM and assign the appropriate roles in SAM;

(2) Remove the exclusion roles in SAM when the individual leaves the organization or changes functions;

(3) For each Exclusion accomplished by the Agency enter the information required by paragraph (b) of this section within 3 working days after the action becomes effective;

(4) For each Exclusion accomplished by the Agency determine whether it is legally permitted to enter the SSN, EIN, or other TIN, under agency authority to suspend or debar;

(5) For each Exclusion accomplished by the Agency update the exclusion record in the SAM database, generally within 5 working days after modifying or rescinding an action;

(6) In accordance with internal retention procedures, maintain records relating to each debarment, suspension, or proposed debarment taken by the agency;

(7) Establish procedures to ensure that the agency does not solicit offers from, award contracts to, or consent to subcontracts with contractors who have an active exclusion record in the SAM database, except as otherwise provided in this subpart;

(8) Direct inquiries concerning listed contractors to the agency or other authority that took the action; and

(9) Contact GSA for technical assistance with SAM, via the support email address or on the technical support phone line available at the SAM Web site provided in paragraph (d) of this section.

* * * * *

PART 12—ACQUISITION OF COMMERCIAL ITEMS

12.301 [Amended]

11. Removing from paragraphs (d)(1) and (2) “registered in SAM” and adding “registered in the SAM database” in their places, respectively.

PART 13—SIMPLIFIED ACQUISITION PROCEDURES

13.102 [Amended]

12. Amend section 13.102 by removing from paragraph (a) “https://www.acquisition.gov” and adding “https://www.sam.gov” in its place.

PART 17—SPECIAL CONTRACTING METHODS

13. Amend section 17.207 by revising paragraph (c)(5) to read as follows.

17.207 Exercise of options.

* * * * *

(c) * * *

(5) The contractor does not have an active exclusion record in the System for Award Management Exclusions database (see FAR 9.405-1);

* * * * *

PART 18—EMERGENCY ACQUISITIONS

14. Revise section 18.102 to read as follows.

18.102 System for Award Management.

Contractors are not required to be registered in the System for Award Management (SAM) database for contracts awarded to support unusual or compelling needs or emergency operations (see 4.1102). However, contractors are required to be registered in the SAM database in order to gain access to the Disaster Response Registry. Contracting officers shall consult the Disaster Response Registry via https://www.sam.gov to determine the availability of contractors for debris removal, distribution of supplies, reconstruction, and other disaster or emergency relief activities inside the United States and outlying areas. (See 26.205).

PART 19—SMALL BUSINESS PROGRAMS

19.307 [Amended]

15. Amend section 19.307 by removing from paragraph (i)(3)(iii) “(SAM)” and adding “(SAM) database” in its place; and removing from paragraph (i)(5)(iii) “designation in SAM” and adding “designation in the SAM database” in its place.

19.308 [Amended]

16. Amend section 19.308 by removing from paragraph (i)(3)(iii) “(SAM)” and adding “(SAM) database” in its place; and removing from paragraph (i)(5)(iii) “designation in SAM” and adding “designation in the SAM database” in its place.

19.1503 [Amended]

17. Amend section 19.1503 by removing from paragraph (b)(1) “(SAM)” and adding “(SAM) database” in its place.

PART 22—APPLICATION OF LABOR LAWS TO GOVERNMENT ACQUISITIONS

18. Amend section 22.1025 by revising the first sentence of the text to read as follows.

22.1025 Ineligibility of violators.

Persons or firms found to be in violation of the Service Contract Labor Standards statute will have an active exclusion record contained in the System for Award Management Exclusions database (see 9.404). * * *

PART 25—FOREIGN ACQUISITION

19. Amend section 25.703-3 by revising paragraph (a) to read as follows.

25.703-3 Prohibition on contracting with entities that export sensitive technology to Iran.

(a) The head of an executive agency may not enter into or extend a contract for the procurement of goods or services with a person that exports certain sensitive technology to Iran, as determined by the President and is listed as being excluded in the System for Award Management database (see via http://www.sam.gov) (22 U.S.C. 8515).

* * * * *

PART 26—OTHER SOCIOECONOMIC PROGRAMS

26.205 [Amended]

20. Amended section 26.205 by removing from paragraphs (a) and (b) “https://www.acquisition.gov” and adding “https://www.sam.gov” in their places.

PART 28—BONDS AND INSURANCE

21. Amend section 28.203-7 by revising paragraph (c); and removing from paragraph (d) “(see 9.404) unless” and adding “(see 9.404), unless” in its place.

The revision reads as follows:

28.203-7 Exclusion of individual sureties.

* * * * *

(c) An individual surety excluded pursuant to this subsection shall be entered in the System for Award Management Exclusions (see 9.404).

* * * * *

PART 32—CONTRACT FINANCING

32.805 [Amended]

22. Amend section 32.805 by removing from paragraph (d)(4) “Management” and adding “Management database” in its place.

32.1108 [Amended]

23. Amend section 32.1108 by removing from paragraph (b)(2)(i) “(SAM)” and adding “(SAM) database” in its place; and removing from paragraph (b)(2)(ii) “SAM indicates” and adding “SAM database indicates” in its place.

24. Amend section 32.1110 by revising the introductory text of paragraph (a)(1) to read as follows:

32.1110 Solicitation provision and contract clauses.

(a) * * *

(1) 52.232-33, Payment by Electronic Funds Transfer—System for Award Management, in solicitations and contracts that include the provision at 52.204-7, System for Award Management or an agency clause that requires a contractor to be registered in the SAM database and maintain registration until final payment, unless—

* * * * *

PART 44—SUBCONTRACTING POLICIES AND PROCEDURES

25. Amend section 44.202-2 by revising paragraph (a)(13) to read as follows:

44.202-2 Considerations.

(a) * * *

(13) Is the proposed subcontractor listed as being excluded in the System for Award Management database (see subpart 9.4)?

* * * * *

PART 52—SOLICITATION PROVISIONS AND CONTRACT CLAUSES

26. Amend section 52.204-7 by—

a. Revising the date of the provision;

b. Revising paragraph (b)(1);

c. Removing from paragraph (c)(2)(i) “legal business.” and adding “legal business name.” in its place;

d. Revising paragraph (d);

e. Removing paragraphs (e) and (f); and

f. Revising the date of Alternate I and paragraph (b)(1) of Alternate I.

The revisions read as follows.

52.204-7 System for Award Management.

* * * * *

System for Award System (Date)

* * * * *

(b)(1) By submission of an offer, the offeror acknowledges that the offeror is registered in the SAM database and the requirement that a prospective awardee shall continue to be registered at time of award, during performance, and through final payment of any contract, basic agreement, basic ordering agreement, or blanket purchasing agreement resulting from this solicitation.

* * * * *

(d) Processing time, which normally takes 48 hours, should be taken into consideration when registering. Offerors who are not registered in the SAM database should consider applying for registration immediately upon receipt of this solicitation. See https://www.sam.gov for information on registration.

* * * * *

Alternate I (Date). * * *

(b)(1) By submission of an offer, the offeror acknowledges that the offeror is registered in the SAM database and the requirement that a prospective awardee shall continue to be registered at time of award, during performance, and through final payment of any contract, basic agreement, basic ordering agreement, or blanket purchasing agreement resulting from this solicitation.

27. Amend section 52.204-8 by—

a. Revising the date of the provision,

b. Removing from the introductory text of paragraph (b)(2) “Management (SAM),” and adding “Management (SAM) database” in its place; and

c. Removing from paragraph (d) “https://www.acquisition.gov” and adding “https://www.sam.gov” in its place.

The revisions read as follows:

52.204-8 Annual Representations and Certifications.

* * * * *

Annual Representations and Certifications (Date)

* * * * *

28. Amend section 52.204-13 by—

a. Revising the date of the clause;

b. Removing from the first sentence of paragraph (b) “for the accuracy” and adding “for currency, accuracy” in its place; and removing from the last sentence “the SAM does” and adding “the SAM database does” in its place;

c. Revising the first sentence of the introductory text of paragraph (c)(1)(i);

d. Removing from the second sentence of paragraph (c)(2) “in the SAM” and adding “in the SAM database” in its place; and

e. Removing from paragraph (d) “https://www.acquisition.gov” and adding “https://www.sam.gov” in its place.

The revisions read as follows:

52.204-13 System for Award Management Maintenance.

* * * * *

System for Award Management Maintenance (Date)

* * * * *

(c) * * *

(1) * * *

(i) If a Contractor has legally changed its business name or doing business as name (whichever is shown on the contract), or has transferred the assets used in performing the contract, but has not completed the necessary requirements regarding novation and change-of-name agreements in subpart 42.12, the Contractor shall provide the responsible Contracting Officer a minimum of one business day's written notification of its intention to—

* * * * *

29. Amend section 52.209-7 by revising the date of the provision and removing from paragraph (d) “https://www.acquisition.gov” and adding “https://www.sam.gov” in its place.

The revision reads as follows:

52.209-7 Information Regarding Responsibility Matters.

* * * * *

Information Regarding Responsibility Matters (Date)

* * * * *

30. Amend section 52.209-9 by revising the date of the clause and removing from paragraph (a) “https://www.acquisition.gov” and adding “https://www.sam.gov” in its place.

The revision reads as follows:

52.209-9 Updates of Publicly Available Information Regarding Responsibility Matters.

* * * * *

Updates of Publicly Available Information Regarding Responsibility Matters (Date)

* * * * *

31. Amend section 52.212-1 by revising the date of provision and paragraph (k) to read as follows:

52.212-1 Instructions to Offerors—Commercial Items.

* * * * *

Instructions to Offerors—Commercial Items (Date)

* * * * *

(k) System for Award Management. Unless exempted by an addendum to this solicitation, by submission of an offer, the offeror acknowledges that the offeror is registered in the SAM database and the requirement that a prospective awardee shall continue to be registered at time of award, during performance and through final payment of any contract resulting from this solicitation. If the Offeror is not registered in the SAM database prior to award of the contract, except in instances of urgency (see 4.1102(a)(5), the Contracting Officer will proceed to award to the next otherwise successful registered Offeror. Offerors may obtain information on registration and annual confirmation requirements via the SAM database accessed through https://www.sam.gov.

* * * * *

32. Amend section 52.212-3 by—

a. Revising the date of the provision;

b. Removing from the introductory text of the provision “http://www.acquisition.gov” and adding “https://www.sam.gov” in its place;

c. Revising paragraph (b)(2); and

d. Removing from the introductory text of paragraph (p) “registered in SAM” and adding “registered in the SAM database” in its place.

The revision reads as follows:

52.212-3 Offeror Representations and Certifications—Commercial Items.

* * * * *

Offeror Representations and Certifications—Commercial Items (Date)

* * * * *

(b) * * *

(2) The offeror has completed the annual representations and certifications electronically via the SAM Web site accessed through http://www.sam.gov. After reviewing the SAM database information, the offeror verifies by submission of this offer that the representations and certifications currently posted electronically at FAR 52.212-3, Offeror Representations and Certifications—Commercial Items, have been entered or updated in the last 12 months, are current, accurate, complete, and applicable to this solicitation (including the business size standard applicable to the NAICS code referenced for this solicitation), at the time an offer is submitted and are incorporated in this offer by reference (see FAR 4.1201), except for paragraphs ___. [Offeror to identify the applicable paragraphs at (c) through (r) of this provision that the offeror has completed for the purposes of this solicitation only, if any.

These amended representation(s) and/or certification(s) are also incorporated in this offer and are current, accurate, and complete as of the date of this offer.

Any changes provided by the offeror are applicable to this solicitation only, and do not result in an update to the representations and certifications posted electronically on SAM.]

* * * * *

33. Amend section 52.212-4 by—

a. Revising the date of the clause;

b. Revising paragraphs (t)(1) and (t)(2)(i);

c. Removing from paragraph (t)(4) “https://www.acquisition.gov” and adding “https://www.sam.gov” in its place; and

d. Removing from paragraph (v) “System for Award Management (SAM)” and adding “SAM database” in its place.

The revised text reads as follows:

52.212-4 Contract Terms and Conditions—Commercial Items.

* * * * *

Contract Terms and Conditions—Commercial Items (Date)

* * * * *

(t) * * * (1) Unless exempted by an addendum to this contract, the Contractor is responsible during performance and through final payment of any contract for the currency, accuracy and completeness of the data within the SAM database, and for any liability resulting from the Government's reliance on inaccurate or incomplete data. To remain registered in the SAM database after the initial registration, the Contractor is required to review and update on an annual basis from the date of initial registration or subsequent updates, its information in the SAM database to ensure it is current, accurate and complete. Updating information in the SAM does not alter the terms and conditions of this contract and is not a substitute for a properly executed contractual document.

(2)(i) If a Contractor has legally changed its business name or “doing business as” name (whichever is shown on the contract), or has transferred the assets used in performing the contract, but has not completed the necessary requirements regarding novation and change-of-name agreements in FAR subpart 42.12, the Contractor shall provide the responsible Contracting Officer a minimum of one business day's written notification of its intention to: change the name in the SAM database; comply with the requirements of subpart 42.12; and agree in writing to the timeline and procedures specified by the responsible Contracting Officer. The Contractor must provide with the notification sufficient documentation to support the legally changed name.

* * * * *

[FR Doc. 2016-11977 Filed 5-19-16; 8:45 am]

BILLING CODE 6820-EP-P